DEPARTMENT OF TRANSPORTATION

Office of the Secretary

[Docket Number DOT-OST-2014-0073]

Office of Small and Disadvantaged Business Utilization (OSDBU) Mentor Protégé Pilot Program

ACTION: Notice and request for comments.

SUMMARY: The Department of Transportation (DOT) invites public comments about our intention to request the Office of Management and Budget (OMB) to approve an information collection regarding the DOT's existing small business Mentor-Protégé pilot program. If approved by OMB, this information collection would request program participants to submit their mentor-protégé relationship agreements for review, and file a joint report on an annual basis documenting the assistance they have provided or received. In addition, program participants would be asked to complete an evaluation form at the end of their participation in the program, and protégés would be asked to update OSDBU annually for 2 years after they exit the program.

DATES: Written comments should be submitted by on or before August 11, 2014.

ADDRESSES: You may submit comments [identified by Docket No. DOT-OST-2014-0073] through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Leonardo San Román, Mentor-Protégé pilot program, U.S. Department of Transportation, Office of Small and Disadvantaged Business Utilization, 1200 New Jersey Avenue SE., Washington, DC 20590, (202) 366-1930.

SUPPLEMENTARY INFORMATION: In April 2012,¹ the DOT launched a Mentor-Protégé pilot program to enhance the capability of disadvantaged and small business owners to compete for federal procurement opportunities. The Mentor-Protégé pilot program is designed to assist small businesses in developing the necessary tools and relationships to compete and perform in DOT and other federal procurement programs. Small businesses include small disadvantaged businesses, women owned businesses, HUBZone small businesses, veteran-owned-businesses and service disabled veteran-owned small businesses. The program is designed to improve the performance of DOT contractors and subcontractors by fostering the establishment of long-term business relationships between small businesses and prime contractors.

¹ Although The National Defense Authorization Act for Fiscal Year 2013, Public Law 112-239, § 1641, prohibits Federal agencies from establishing new programs, this provision does not apply to programs in existence on the date of the Act. Rather, agencies with existing programs in place as of the date of the Act may continue to implement and make modifications to their programs, as is the case here.

Eligible businesses who are prime contractors may agree to mentor eligible protégés. The mentors would provide appropriate developmental assistance to enhance the capabilities of protégés to perform as contractors and/or subcontractors.

Since the inception of the program, small business concerns participating in the program have been able to develop their core capabilities, enabling them to compete and perform in federal contracts. Therefore, DOT is continuing the Mentor Protégé program, allowing increased participation as indicated below.

Information Collection

Under this new proposed information collection, we request that participants submit their mentor-protégé agreements for review. We request that only one copy of the joint agreement be submitted to OSDBU. In addition, once the agreement is reviewed, we would request that the participants submit annual report to the OSDBU describing their progress. The report may be developed jointly by the mentor and protégé, so only one annual report per mentor-protégé relationship would be submitted. If the relationship extends beyond the first year, we would request that the participants submit an annual update. The annual report would include information about the action taken or suggested by the mentor to increase the participation of the protégé in federal procurement programs; actions taken or suggested to develop the technical capabilities of the protégé; and the degree to which the protégé has been able to implement those actions or recommendations. Once the mentor-protégé relationship has ended, we would also request that each program participant complete a program evaluation and submit it to the OSDBU. The purpose of the evaluation form is to provide feedback to the OSDBU on the program, with suggestions for improvement. In addition, we would ask protégés, once they have exited the program, to continue to provide annual updates to OSDBU for up to two years, describing their progress in participating in federal procurement programs.

The estimated burden for this proposed collection is as follows:

(1) Form: Mentor Protégé agreement.

Type of Review: New Information Collection.

Affected Public: Prime contractors and small businesses interested in participating in DOT's Mentor Protégé Program.

Estimated Annual Number of Responses: Approximately 8.

Frequency: One-time.

Estimated Average Burden per Response: 4 hours.

Estimated Total Annual Burden Hours: 32 hours.

(2) Form: Mentor Protégé program annual report.

Type of Review: New Information Collection.

Affected Public: Prime contractors and small businesses participating in DOT's Mentor Protégé Program.

Estimated Annual Number of Responses: 8

Frequency: One-time.

Estimated Average Burden per Response: 1 hour.

Estimated Total Annual Burden Hours: 8 hours.

(3) Form: Mentor Protégé program evaluation form.

Type of Review: New Information Collection.

Affected Public: Prime contractors and small businesses participating in DOT's Mentor Protégé Program.

Estimated Annual Number of Responses: 16

Frequency: One-time.

Estimated Average Burden per Response: 1 hour per respondent.

Estimated Total Annual Burden Hours: 16 hours.

Extending the Duration of the Relationship

The duration of the mentorship will be determined by the mentor and protégé. We anticipate in most cases, this period will be 12 months, but some participants may want to extend their mentorship relationship. Currently, the DOT allows for this relationship to be extended up to 24 months. However, the DOT proposes to amend the 24 month cap and allow the relationship to be extended up to 36 months. We received anecdotal information from program participants and other businesses expressing that a longer relationship may be beneficial to the firms. Program participants should be able to develop long range developmental plans up to 36 months benefiting small business concerns to receive additional technical assistance; otherwise not received due to time constraints and limitations. In addition, other federal government Mentor-Protégé programs allow their participants to establish a relationship for up to 36 months.

Reports Beyond Program Participation

DOT's Mentor Protégé program's primary goal is to provide developmental assistance to help small business to compete and perform on federal procurement opportunities. It's important to DOT to ensure the developmental assistance received by protégés during their program participation helps them to succeed beyond the term of the Mentor Protégé agreement. DOT will request firms participating as protégés in the program to agree to report its progress to the OSDBU annually for two (2) years after exiting the program. OSDBU will not request this of Mentors.

For additional information related to the Mentor Protégé program, visit OSDBU's Web site at www.dot.gov/osdbu.

Issued in Washington, DC, on June 19, 2014.
Brandon Neal,
Director, Office of Small and Disadvantaged Business Utilization.

[FR Doc. 2014-15316 Filed 6-27-14; 8:45 am]

BILLING CODE 4910-9X-P